ENVIRONMENTAL PROTECTION AGENCY

40 CFR Part 52

[FRL-9230-6]

Availability of Federally-Enforceable State Implementation Plans for All States

AGENCY: Environmental Protection Agency (EPA).

ACTION: Notice of availability.

SUMMARY: Section 110(h) of the Clean Air Act, as amended in 1990 (the “Act”), requires EPA by November 15, 1995, and every three years thereafter, to assemble the requirements of the Federally-enforceable State Implementation Plans (SIPs) in each State and to publish notice in the Federal Register of the availability of such documents. This notice of availability fulfills the three-year requirement of making these SIP compilations for each State available to the public.

DATES: Effective Date: November 24, 2010.

ADDRESSES: You may contact the appropriate EPA Regional Office regarding the requirements of the applicable implementation plans for each State in that region. The list below identifies the appropriate regional office for each state. The State Implementation Plan (SIP) compilations are available for public inspection during normal business hours at the appropriate EPA Regional Office. If you want to view these documents, you should make an appointment with the appropriate EPA office and arrange to review the SIP at a mutually agreeable time.

Region 1: Connecticut, Maine, Massachusetts, New Hampshire, Rhode Island, and Vermont.

Regional Contact: Donald Cooke (617/918-1668), EPA, Office of Ecosystem Protection, 5 Post Office Square—Suite 100, (Mail code OEP05-2), Boston, MA 02109-3912

See also: http://www.epa.gov/region1/topics/air/sips.html.

Region 2: New Jersey, New York, Puerto Rico, and Virgin Islands.

Regional Contact: Paul Truchan (212/637-3711), EPA, Air Programs Branch, 290 Broadway, New York, NY 10007-1866.

See also: http://www.epa.gov/region02/air/sip/.

Region 3: Delaware, District of Columbia, Maryland, Pennsylvania, Virginia, and West Virginia.

Regional Contact: Harold A. Frankford (215/814-2108), EPA, Air Protection Division (3AP00), 1650 Arch Street, Philadelphia, PA 19103-2029.

See also: http://yosemite.epa.gov/r3/r3sips.nsf/MidAtlanticSIPs?openform.

Region 4: Alabama, Florida, Georgia, Kentucky, Mississippi, North Carolina, South Carolina, and Tennessee.

Regional Contact: Nacosta Ward (404/562-9146), EPA, Air Planning Branch, 61 Forsyth Street, SW., Atlanta, GA 30303.

See also: http://www.epa.gov/region4/air/sips/.

Region 5: Illinois, Indiana, Michigan, Minnesota, Ohio, and Wisconsin.

Regional Contacts: Christos Panos (312/353-8328), EPA, Air and Radiation Division (AR-18J), 77 West Jackson Boulevard, Chicago, IL 60604-3507.

See also: http://www.epa.gov/region05air/sips/index.html.

Region 6: Arkansas, Louisiana, New Mexico, Oklahoma, and Texas.

Regional Contact: Bill Deese (214/665-7253) and Carl Young (214/665-6645), EPA, Multimedia Planning and Permitting Division, Air Planning Section (6PD-L), 1445 Ross Avenue, Suite 700, Dallas, TX 75202-2733.

See also: http://www.epa.gov/earth1r6/6pd/air/sip/sip.htm.

Region 7: Iowa, Kansas, Missouri, and Nebraska.

Regional Contact: Jan Simpson (913/551-7089), EPA, Air and Waste Management Division, Air Planning and Development Branch, 901 North 5th Street, Kansas City, KS 66101.

See also: http://www.epa.gov/region07/programs/artd/air/rules/fedapprv.htm.

Region 8: Colorado, Montana, North Dakota, South Dakota, Utah, and Wyoming.

Regional Contact: Kathy Dolan (303/312-6142), EPA, Air Program, Office of Partnership and Regulatory Assistance, 1595 Wynkoop Street, Denver, CO 80202-2466.

See also: http://www.epa.gov/region8/air/sip.html.

Region 9: Arizona, California, Hawaii, Nevada, American Samoa, and Guam.

Regional Contacts: Cynthia Allen (415/947-4120) and Lisa Tharp (415/947-4142), EPA, Air Division, Rulemaking Office, (AIR-4), 75 Hawthorne Street, San Francisco, CA 94105.

See also: http://www.epa.gov/region9/air/sips/.

Region 10: Alaska, Idaho, Oregon, and Washington.

Regional Contact: Donna Deneen (206/553-6706), EPA, Office of Air Waste and Toxics (AWT-107), 1200 Sixth Avenue, Suite 900, Seattle, WA 98101-3140.

See also: http://www.epa.gov/r10earth/sips.htm.

FOR FURTHER INFORMATION CONTACT: Donald Cooke, Air Quality Planning Unit, U.S. Environmental Protection Agency, EPA New England Regional Office, 5 Post Office Square—Suite 100, (Mail code OEP05-2), Boston, MA 02109-3912, telephone number (617) 918-1668, fax number (617) 918-0668, e-mail cooke.donald@epa.gov.

SUPPLEMENTARY INFORMATION:

Table of Contents

I. Availability of SIP Compilations

II. What is the basis for this document?

III. What is being made available under this document?

IV. What are the documents and materials associated with the SIP?

V. Background

A. Relationship of National Ambient Air Quality Standards (NAAQS) to SIPs

B. What is a state implementation plan?

C. What does it mean to be federally-enforceable?

I. Availability of SIP Compilations

This notice identifies the appropriate EPA Regional Offices to which you may address questions of SIP availability and SIP requirements. In response to the 110(h) requirement following the 1990 Clean Air Act Amendments, the first notice of availability was published in the Federal Register on November 1, 1995 at 60 FR 55459. The second notice of availability was published in the Federal Register on November 18, 1998 at 63 FR 63986. The third notice of availability was published in the Federal Register on November 20, 2001 at 66 FR 58070. The fourth notice of availability was published in the Federal Register on December 22, 2004 at 69 FR 76617. The fifth notice of availability was published in the Federal Register on November 15, 2007 at 72 FR 64158. This is the sixth notice of availability of the compilations of Federally-enforceable State Implementation Plans for each state.

In addition, information on the content of EPA-approved SIPs is available on the Internet through the EPA Regional Web sites. Regional Web site addresses for Regional information are provided in the regional contacts list above.

II. What is the basis for this document?

Section 110(h)(1) of the Clean Air Act mandates that not later than 5 years after the date of enactment of the Clean Air Act Amendments of 1990, and every three years thereafter, the Administrator shall assemble and publish a comprehensive document for each State setting forth all requirements of the applicable implementation plan for such State and shall publish notice in the Federal Register of the availability of such documents.

Section 110(h) recognizes the fluidity of a given State SIP. The SIP is a living document which can be revised by the State with EPA approval as necessary to address the unique air pollution problems in the State. Therefore, EPA from time to time must take action on SIP revisions containing new and/or revised regulations. On May 31, 1972 (37 FR 10842), EPA approved, with certain exceptions, the initial SIPs for 50 states, four territories and the District of Columbia. [Note: EPA approved an additional SIP—for the Northern Mariana Islands—on November 10, 1986 (51 FR 40799)]. Since 1972, each State and territory has submitted numerous SIP revisions, either on their own initiative, or because they were required to as a result of various amendments to the Clean Air Act. This notice of availability informs the public that the SIP compilation has been updated to include the most recent requirements approved into the SIP. These approved requirements are Federally-enforceable.

III. What is being made available under this document?

This document announces that the Federally-enforceable SIP for each State is available for review and public inspection at the appropriate EPA regional office and identifies the contact person for each regional office.

The Federally-enforceable SIP is indeed a complex document, containing both many regulatory requirements and non-regulatory items such as plans and emission inventories. Regulatory requirements include State-adopted rules and regulations, source-specific requirements reflected in consent orders, and in some cases, provisions in the enabling statutes.

Following the 1990 Clean Air Act Amendments, the first section 110(h) SIP compilation availability notice was published on November 1, 1995 (61 FR 55459). At that time, EPA announced that the SIP compilations, comprised of the regulatory portion of each State SIP, were available at the EPA Regional Office serving that particular State. In general, the compilations made available in 1995 did not include the source-specific requirements or other documents and materials associated with the SIP. With the second notice of availability in 1998, the source-specific requirements and the “non-regulatory” documents [e.g., attainment plans, rate of progress plans, emission inventories, transportation control measures, statutes demonstrating legal authority, monitoring networks, etc.] were made available and will remain available for public inspection at the respective regional office listed in the ADDRESSES section above. If you want to view these documents, please make an appointment with the appropriate EPA Regional Office and arrange for a mutually agreeable time.

IV. What are the documents and materials associated with the SIP?

In addition to state regulations that provide for air pollution control, SIPs include EPA-approved non-regulatory elements (such as transportation control measures, local ordinances, State statutes, modeling demonstrations, and emission inventories). These elements must have gone through the State rulemaking process with the opportunity for public comment. EPA also took rulemaking action on these elements and those which have been EPA-approved or conditionally approved are listed along with any limitations on their approval. Examples of EPA-approved documents and materials associated with the SIP include, but are not limited to: SIP Narratives; Particulate Matter Plans; Carbon Monoxide Plans; Ozone Plans; Maintenance plans; Vehicle Inspection and Maintenance (I/M) SIPs; Emissions Inventories; Monitoring Networks; State Statutes submitted for the purposes of demonstrating legal authority; Part D nonattainment area plans; Attainment demonstrations; Transportation control measures (TCMs); Committal measures; Contingency Measures; Non-regulatory and Non-TCM Control Measures; 15% Rate of Progress Plans; Emergency episode plans; and Visibility plans. As stated above, the “non-regulatory” documents are available for public inspection at the appropriate EPA Regional Office.

V. Background

A. Relationship of National Ambient Air Quality Standards (NAAQS) to SIPs

EPA has established primary and secondary National Ambient Air Quality Standards (NAAQS) for six criteria pollutants, which are widespread common pollutants known to be harmful to human health and welfare. The criteria pollutants are: Carbon monoxide; lead; nitrogen oxides; ozone; particulate matter; and sulfur dioxide. See 40 CFR part 50 for a technical description of how the levels of these standards are measured and attained. State Implementation Plans provide for implementation, maintenance, and enforcement of the NAAQS in each State. Areas within each State that are designated nonattainment are subject to additional planning and control requirements. Accordingly, different regulations or programs in the SIP will apply to different areas. EPA lists the designation of each area at 40 CFR part 81.

B. What is a State Implementation Plan?

The State Implementation Plan is a plan for each State that identifies how that State will attain and/or maintain the primary and secondary National Ambient Air Quality Standards (NAAQS) set forth in section 109 of the Clean Air Act and 40 Code of Federal Regulations 50.4 through 50.12 and which includes Federally-enforceable requirements. Each State is required to have a SIP which contains control measures and strategies which demonstrate how each area will attain and maintain the NAAQS. These plans are developed through a public process, formally adopted by the State, and submitted by the Governor's designee to EPA. The Clean Air Act requires EPA to review each plan and any plan revisions and to approve the plan or plan revisions if consistent with the Clean Air Act.

SIP requirements applicable to all areas are provided in section 110. Part D of title I of the Clean Air Act specifies additional requirements applicable to nonattainment areas. Section 110 and part D describe the elements of a SIP and include, among other things, emission inventories, a monitoring network, an air quality analysis, modeling, attainment demonstrations, enforcement mechanisms, and regulations which have been adopted by the State to attain or maintain NAAQS. EPA has adopted regulatory requirements which spell out the procedures for preparing, adopting and submitting SIPs and SIP revisions; these are codified in 40 CFR part 51.

EPA's action on each State's SIP is promulgated in 40 CFR part 52. The first section in the subpart in 40 CFR part 52 for each State is generally the “Identification of plan” section which provides chronological development of the State SIP. Alternatively, if the state has undergone the new Incorporation by Reference formatting process (see 62 FR 27968; May 22, 1997), the identification of plan section identifies the State-submitted rules and plan elements that have been Federally approved. The goal of the State-by-State SIP compilation is to identify those rules under the “Identification of plan” section which are currently Federally-enforceable. In addition, some of the SIP compilations may include control strategies, such as transportation control measures, local ordinances, State statutes, and emission inventories. Some of the SIP compilations may not identify these other Federally-enforceable elements.

The contents of a typical SIP fall into three categories: (1) State-adopted control measures which consist of either rules/regulations or source-specific requirements (e.g., orders and consent decrees); (2) State-submitted “non-regulatory” components (e.g., attainment plans, rate of progress plans, emission inventories, transportation control measures, statutes demonstrating legal authority, monitoring networks, etc.); and (3) additional requirements promulgated by EPA (in the absence of a commensurate State provision) to satisfy a mandatory section 110 or part D (Clean Air Act) requirement.

C. What does it mean to be federally-enforceable?

Enforcement of the state regulation before and after it is incorporated into the Federally-approved SIP is primarily a state responsibility. However, after the regulation is Federally approved, EPA is authorized to take enforcement action against violators. Citizens also have legal recourse to address violations as described in section 304 of the Clean Air Act.

When States submit their most current State regulations for inclusion into Federally-enforceable SIPs, EPA begins its review as soon as possible. Until EPA approves a submittal by rulemaking action, State-submitted regulations will be State-enforceable only. Therefore, State-enforceable SIPs may exist that differ from Federally-enforceable SIPs. As EPA approves these State-submitted regulations, the regional offices will continue to update the SIP compilations to include these applicable requirements.

Dated: November 17, 2010.
Lisa P. Jackson,
Administrator.

[FR Doc. 2010-29640 Filed 11-23-10; 8:45 am]

BILLING CODE 6560-50-PA24NO0.